DEPARTMENT OF THE INTERIOR

[Docket No. FWS-HQ-IA-2017-0013; FXIA16710900000-178-FF09A30000]

Endangered Species; Wild Bird Conservation; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before April 21, 2017.

ADDRESSES: Submitting Comments: You may submit comments by one of the following methods:

• Federal eRulemaking Portal: http://www.regulations.gov. Follow the instructions for submitting comments on Docket No. FWS-HQ-IA-2017-0013.

• U.S. mail or hand-delivery: Public Comments Processing, Attn: Docket No. FWS-HQ-IA-2017-0013; U.S. Fish and Wildlife Service Headquarters, MS: BPHC; 5275 Leesburg Pike, Falls Church, VA 22041-3803.

When submitting comments, please indicate the name of the applicant and the PRT# you are commenting on. We will post all comments on http://www.regulations.gov. This generally means that we will post any personal information you provide us (see the Public Comments section below for more information).

Viewing Comments: Comments and materials we receive will be available for public inspection on http://www.regulations.gov, or by appointment, between 8 a.m. and 4 p.m., Monday through Friday, except Federal holidays, at the U.S. Fish and Wildlife Service, Division of Management Authority, 5275 Leesburg Pike, Falls Church, VA 22041-3803; telephone 703-358-2095.

FOR FURTHER INFORMATION CONTACT:

Endangered Species Applications: Joyce Russell, Government Information Specialist, Division of Management Authority, U.S. Fish and Wildlife Service Headquarters, MS: IA; 5275 Leesburg Pike, Falls Church, VA 22041-3803; telephone 703-358-2104; facsimile 703-358-2280.

Wild Bird Conservation Act Applications: Craig Hoover, Chief, Division of Management Authority, U.S. Fish and Wildlife Service Headquarters, MS: IA; 5275 Leesburg Pike, Falls Church, VA 22041-3803; telephone 703-358-2095; facsimile 703-358-2298.

If you use a telecommunications device for the deaf (TDD), call the Federal Relay Service at 800-877-8339.

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; Jan. 26, 2009), which call on all Federal agencies to promote openness and transparency in Government by disclosing information to the public, we invite public comment on these permit applications before final action is taken.

III. Permit Applications

A. Endangered Species

Applicant: Ruth Linsky, Ellensburg, WA; PRT-15011C

The applicant requests a permit to import saliva samples obtained noninvasively from wild Bornean orangutans (Pongo pygmaeus) within Cape Leaky, Tanjung Puting National Park for the purpose of enhancement of the survival of the species through scientific research.

Applicant: Alex Cisneros, Graham, TX; PRT-07645C

The applicant requests a permit to import a shoulder mount and skin of a cape mountain zebra (Equus zebra zebra) for the purpose of enhancement of the survival of the species. This notification covers activities to be conducted by the applicant over a 5-year period.

Applicant: Adalgisa Caccone, New Haven, CT; PRT-209142

The applicant requests a permit to import biological samples from wild giant Galapagos tortoise (Geochelone nigra), for the purpose of scientific research. This notification covers activities to be conducted by the applicant over a 5-year period.

Applicant: Jack Phillips, Gladewater, TX; PRT-195823

The applicant requests a permit to renew his application for red lechwe (Kobus leche), for the enhancement of the survival of the species. This notification covers activities to be conducted by the applicant over a 5-year period.

Applicant: Turtle Back Zoo, West Orange, NJ; PRT-09742C

The applicant requests a permit to import one female captive-bred amur leopard (Panthera pardus orientalis) from the Parken Zoo, Sweden, for the purpose of enhancement of the survival of the species.

Applicant: Jude Lagarde, Baton Rouge, LA; PRT-04151C

The applicant requests a captive-bred wildlife registration under 50 CFR 17.21(g) for the Great green macaw (Ara ambiguus), to enhance species propagation or survival. This notification covers activities to be conducted by the applicant over a 5-year period.

Applicant: Dr. Frank Paladino, Indiana-Purdue University Fort Wayne, IN; PRT-06369C

The applicant requests a permit to collect skin, scute, and blood samples from hawksbill sea turtles (Eretmochelys imbricata) for the purpose of enhancement of the survival of the species/scientific research. This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: Ronald Price, Mesa, AZ; PRT-15386C

Applicant: Gary Cooper, Oakwood, OH; PRT-16709C

Applicant: John Watson, Richardson, TX; PRT-11484C

B. Wild Bird Conservation Act

The public is invited to comment on the following applications for approval to conduct certain activities with bird species covered under the Wild Bird Conservation Act of 1992 (16 U.S.C. 4901-4916). This notice is provided pursuant to section 112(4) of the Wild Bird Conservation Act of 1992 (50 CFR 15.26(c)).

Applicant: Vernon Brett Padgett, Atlanta, GA; PRT-12087C

The applicant wishes to establish a cooperative breeding program for Papuan hornbill (Rhyticeros plicatus), knobbed hornbill (Aceros cassidix), wreathed hornbill (Rhyticeros undulatus), wrinkled hornbill (Aceros corrugatus), writhed hornbill (Aceros leucocephalus), Asian pied hornbill (Anthracoceros albirostris), Palawan hornbill (Anthracoceros marchei), black hornbill (Anthracoceros malayanus), rufous hornbill (Buceros hydrocorax), rhinocerous hornbill (Buceros rhinoceros), tarictic hornbill (Penelopides panini), Pesquet's parrot (Psittrichas fulgidus) and gang-gang cockatoo (Callocephalon fimbriatum).

The applicant wishes to be an active participant in this program along with the Dallas World Aquarium, Dallas, Texas, and John Bornemann, Dover, Florida.

If approved, the program will be overseen by the Zoological Association of America, Punta Gorda, Florida.

IV. Public Comments

You may submit your comments and materials concerning this notice by one of the methods listed in ADDRESSES. We will not consider comments sent by email or fax or to an address not listed in ADDRESSES.

If you submit a comment via http://www.regulations.gov, your entire comment, including any personal identifying information, will be posted on the Web site. If you submit a hardcopy comment that includes personal identifying information, you may request at the top of your document that we withhold this information from public review. However, we cannot guarantee that we will be able to do so.

We will post all hardcopy comments on http://www.regulations.gov.

V. Authority

Wild Bird Conservation Act of 1992 (16 U.S.C. 4901-4916); Endangered Species Act of 1973 (16 U.S.C. 1531).

Joyce Russell,
Government Information Specialist, Branch of Permits, Division of Management Authority.

[FR Doc. 2017-05726 Filed 3-21-17; 8:45 am]

BILLING CODE 4333-15-P